DEPARTMENT OF DEFENSE

Office of the Secretary

[Transmittal No. 25-1M]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1M.

Dated: January 26, 2026.
Stephanie J. Bost,
Alternate OSD Federal Register Liaison Officer, Department of Defense.

BILLING CODE 6001-FR-P

BILLING CODE 6001-FR-C

Transmittal No. 25-1M

REPORT OF ENHANCEMENT OR UPGRADE OF SENSITIVITY OF TECHNOLOGY OR CAPABILITY (SEC. 36(B)(5)(C), AECA)

(i) Prospective Purchaser: Government of France

(ii) Sec. 36(b)(1), AECA Transmittal No.: 21-65

Date: December 21, 2021

Implementing Agency: Navy

(iii) Description: On December 21, 2021, Congress was notified by congressional certification transmittal number 21-65 of the possible sale, under Section 36(b)(1) of the Arms Export Control Act, of one (1) Electromagnetic Aircraft Launch System (EMALS), two (2) launcher configuration; and one (1) Advanced Arresting Gear (AAG), three (3) engine configuration. Also included were land-based testing and test spares; shipboard install; testing and certification support; shipboard spares; peculiar support equipment; government furnished equipment; multi-purpose reconfigurable training system; operator and maintainer training; integrated electronic technical manuals; drawings and interface control documents; technical assistance; contractor engineering technical services; and other related elements of logistical and program support. The estimated total cost was $1.321 billion. Major Defense Equipment (MDE) constituted $0.848 billion of this total.

This transmittal notifies the inclusion of the following MDE items: one (1) Electromagnetic Aircraft Launch System (EMALS) and three (3) launcher configurations. The following non-MDE items are also included: EMALS launcher configuration land-based testing and test spares; shipboard installation services; testing and certification support; shipboard spares; peculiar support equipment; government-furnished equipment; multi-purpose reconfigurable training system; operator and maintainer training; integrated electronic technical manuals; drawings and interface control documents; technical assistance; contractor engineering technical services; and other related elements of logistical and program support. The estimated total value of the new items is $755 million. The estimated non-MDE value will increase by $513 million to a revised $986 million. The estimated total case value will increase by $755 million to a revised $2.076 billion. MDE constitutes $1.09 billion of this total.

(iv) Significance: The inclusion of this MDE represents an increase in capability over what was previously notified.

(v) Justification: This proposed sale will support the foreign policy and national security objectives of the United States by helping to improve the security of a NATO Ally which is an important force for political stability and economic progress in Europe.

(vi) Sensitivity of Technology:

The Sensitivity of Technology Statement contained in the original notification applies to items reported here.

The highest level of classification of defense articles, components, and services included in this potential sale is CONTROLLED UNCLASSIFIED INFORMATION.

(vii) Date Report Delivered to Congress: November 13, 2025

[FR Doc. 2026-01719 Filed 1-28-26; 8:45 am]

BILLING CODE 6001-FR-P